DEPARTMENT OF LABOR

Employment and Training Administration

[TA-W-59,947 and TA-W-59,947A]

Hamrick's Incorporated, Plants 1 and 2, Including On-Site Leased Workers From Phillips Staffing, Gaffney, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 14, 2006, applicable to workers of Hamrick's Incorporated, Plant 1 and Plant 2 located in Gaffney, South Carolina, including on-site leased workers from Phillips Staffing. The notice was published in the Federal Register on September 26, 2006 (71 FR 56170-56172).

At the request of the State agency, the Department reviewed the certification for workers of the subject firm. The workers are engaged in employment related to the production of sweaters, pants and skirts. The workers at Plant 1 cut the fabric while the workers at Plant 2 sew the fabric. The review shows that all workers of Hamrick Industries, Inc., Gaffney, South Carolina were certified eligible to apply for adjustment assistance under petition number TA-W-55,139, which expired on July 7, 2006.

In order to avoid an overlap in worker group coverage, the Department is amending the current certification for workers of Hamrick's Incorporated, Plant 1 and Plant 2 located in Gaffney, South Carolina, to change the impact date from August 1, 2005 to July 8, 2006.

The amended notice applicable to TA-W-59,497 and TA-W-59,497A is hereby issued as follows:

All workers of Hamrick's Incorporated, Plant 1, Gaffney, South Carolina (TA-W-59,947), Hamrick's Incorporated, Plant 2, Gaffney, South Carolina (TA-W-59,947), including on-site workers of Phillips Staffing, who became totally separated from employment on or after July 8, 2006 through September 14, 2008, are eligible to apply for adjustment assistance under Section 223 of the Trade Act of 1974, and are also eligible to apply for alternative trade adjustment assistance under Section 246 of the Trade Act of 1974.

Signed at Washington, DC, this 10th day of October, 2006.
Linda G. Poole,
Certifying Officer, Division of Trade Adjustment Assistance.

[FR Doc. E6-17119 Filed 10-13-06; 8:45 am]

BILLING CODE 4510-30-P